NUCLEAR REGULATORY COMMISSION

[Docket Nos. 52-012 And 52-013; NRC-2010-0126]

Nuclear Innovation North America LLC; Notice of Availability of the Final Environmental Impact Statement for South Texas Project Units 3 and 4 Combined License Application Review

Notice is hereby given that the U.S. Nuclear Regulatory Commission (NRC) and the U.S. Army Corps of Engineers as a cooperating agency have published a final environmental impact statement (EIS), NUREG-1937, Environmental Impact Statement for Combined Licenses (COLs) at the South Texas Project Electric Generating Station Units 3 and 4: Final Report” for the South Texas Project Electric Generating Station Units 3 and 4 COL application.

The draft EIS was published in March 2010; a notice of availability appeared in the Federal Register on March 25, 2010 (75 FR 14474). The purpose of this notice is to inform the public that the final EIS is available for public inspection. The final EIS may be viewed online at: http://www.nrc.gov/reading-rm/doc-collections/nuregs/staff/sr1937/. In addition, the final EIS is available for inspection in the NRC Public Document Room (PDR) located at One White Flint North, 11555 Rockville Pike, Rockville, Maryland 20852 or from NRC's Agencywide Documents Access and Management System (ADAMS). ADAMS is accessible from the NRC Web site at http://www.nrc.gov/reading-rm/adams.html. The ADAMS accession numbers for the final EIS are ML11049A000 and ML11049A001. Persons who do not have access to ADAMS or who encounter problems in accessing the documents located in ADAMS should contact the PDR reference staff by telephone at 1-800-397-4209 or 1-301-415-4737 or by e-mail at pdr.resource@nrc.gov. The Bay City Public Library, located at 1100 7th Street, Bay City, Texas, has also agreed to make the EIS available to the public.

FOR FURTHER INFORMATION CONTACT: Ms. Jessie Muir, Environmental Projects Branch 2, U.S. Nuclear Regulatory Commission, Mail Stop T7-E30, Washington, DC, 20555-0001. Ms. Muir may be contacted by telephone at 301-415-0491 or via e-mail at Jessie.Muir@nrc.gov.

Dated at Rockville, Maryland, this 24th day of February, 2011.
For the Nuclear Regulatory Commission.
Scott Flanders,
Director, Division of Site and Environmental Reviews, Office of New Reactors.

[FR Doc. 2011-4677 Filed 3-1-11; 8:45 am]

BILLING CODE 7590-01-P